DEPARTMENT OF COMMERCE

Technology Administration

Technology Administration Performance Review Board Membership

The Technology Administration Performance Review Board (TA PRB) reviews performance appraisals, agreements, and recommended actions pertaining to employees in the Senior Executive Service and reviews performance-related pay increases for ST-3104 employees. The Board makes recommendations to the appropriate appointing authority concerning such matters so as to ensure the fair and equitable treatment of these individuals.

This notice lists the membership of the TA PRB and supersedes the list published in Federal Register Document 01-29675, Vol. 66, No. 230, page 59575, dated November 29, 2001.

Cathleen Campbell (C), Director of International Technology, Policy and Programs, Technology Administration, Washington, DC 20230, Appointment Expires: 12/31/02 (General).

Charles Clark (C), Chief, Electron & Optical Physics Division, Physics Laboratory, National Institute of Standards & Technology, Gaithersburg, MD 20899, Appointment Expires: 12/31/04 (Limited).

Belinda L. Collins (C), Deputy Director for Technology Services, National Institute of Standards & Technology, Gaithersburg, MD 20899, Appointment Expires: 12/31/04 (Limited).

Stephen Freiman (C), Deputy Director, Materials Science & Engineering Laboratory, National Institute of Standards & Technology, Gaithersburg, MD 20899, Appointment Expires: 12/31/04 (Limited).

Daniel Hurley (C), Director of Communication and Information, Infrastructure Assurance Program, National Telecommunications and Information Administration, Washington, DC 20230, Appointment Expires: 12/31/03 (General).

Richard K. Kayser (C), Director for Technology Services, National Institute of Standards & Technology, Gaithersburg, MD 20899, Appointment Expires: 12/31/04 (General).

William F. Koch (C), Deputy Director, Chemical Science & Technology Laboratory, National Institute of Standards & Technology, Gaithersburg, MD 20899, Appointment Expires: 12/31/04 (Limited).

Willie E. May (C), Chief, Analytical Chemistry Division, Chemical Science & Technology Laboratory, National Institute of Standards & Technology, Gaithersburg, MD 20899, Appointment Expires: 12/31/04 (Limited).

Robert F. Moore (C), Deputy Director for Safety and Facilities, National Institute of Standards & Technology, Gaithersburg, MD 20899-3200, Appointment Expires: 12/31/03 (Limited).

Tyra Dent Smith (C), Chief, Human Resources Division, Census Bureau, Washington, DC 20233, Appointment Expires: 12/31/04 (Limited).

John F. Sopko (C), National Technical Information Service, Springfield, VA 22161, Appointment Expires: 12/31/04 (General).

Dennis Swyt (C), Chief, Precision Engineering Division, Manufacturing Engineering Laboratory, National Institute of Standards & Technology, Gaithersburg, MD 20899-8210, Appointment Expires: 12/31/04 (General).

Kathleen Taylor (C), Chief, Employment and Labor Law Division, Assistant General Counsel for Administration, Office of the General Counsel, Office of the Secretary, Washington, DC 20230, Appointment Expires: 12/31/03 (General).

Susan Zevin (C), Deputy Director, Information Technology Laboratory, Information Technology Laboratory, National Institute of Standards & Technology, Gaithersburg, MD 20899-8900, Appointment Expires: 12/31/02 (Limited).

Dated: July 24, 2002.
Benjamin H. Wu,
Deputy Under Secretary of Commerce for Technology, Technology Administration, Department of Commerce.

[FR Doc. 02-19569 Filed 8-1-02; 8:45 am]

BILLING CODE 3510-18-M